DEPARTMENT OF COMMERCE

International Trade Administration

Department of Energy; Notice of Decision on Application for Duty-Free Entry of Scientific Instrument

This decision is made pursuant to Section 6(c) of the Educational, Scientific, and Cultural Materials Importation Act of 1966 (Pub. L. 89-651, 80 Stat. 897; 15 CFR part 301). Related records can be viewed between 8:30 am and 5:00 pm in Room 4211, U.S. Department of Commerce, 14th and Constitution Avenue, N.W., Washington, D.C.

Docket Number: 99-033. Applicant: U.S. Department of Energy, Ames, IA 50011-3020. Instrument: UHV Surface Analysis System, Model Multiprobe S. Manufacturer: Omicron Vakuum Physik GmbH, Germany. Intended Use: See notice at 65 FR 284, January 4, 2000.

Comments: None received. Decision: Approved. No instrument of equivalent scientific value to the foreign instrument, for such purposes as it is intended to be used, is being manufactured in the United States. Reasons: The foreign instrument provides an ultra-high vacuum chamber with compatible scanning tunneling, scanning electron and scanning Auger microscopes with the following: (1) An operating temperature of 50 to 1500 degrees K, (2) adequate internal and external vibration isolation and (3) a sample manipulator that can be heated or cooled. A university center for advanced microstructural devices and the National Institute of Standards and Technology advise that (1) these capabilities are pertinent to the applicant's intended purpose and (2) they know of no domestic instrument or apparatus of equivalent scientific value to the foreign instrument for the applicant's intended use (comparable case).

We know of no other instrument or apparatus of equivalent scientific value to the foreign instrument which is being manufactured in the United States.

Frank W. Creel,
Director, Statutory Import Programs Staff.

[FR Doc. 00-4918 Filed 2-29-00; 8:45 am]

BILLING CODE 3510-DS-P